DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Office Socioeconomic Survey of Gulf Shrimp Fishermen.

Form Number(s): None.

OMB Approval Number: 0648-0476.

Type of Request: Regular submission.

Burden Hours: 450.

Number of Respondents: 600.

Average Hours Per Response: 45 minutes.

Needs and Uses: National Oceanic and Atmospheric Administration (NOAA) proposes to collect socioeconomic data from commercial fishermen in the Gulf of Mexico shrimp fishery who hold a permit for shrimp fishing in federal waters (U.S. Exclusive Economic Zone). Information about variable and fixed costs, capital investment and other economic information will be collected. This data complements other data already collected and is needed to conduct analyses that will improve the management of the shrimp fishery and to satisfy legal requirements. The data will be used to assess how fishermen will be impacted by and respond to federal regulation likely to be considered by fishery managers.

Affected Public: Business or other for-profit organizations.

Frequency: Annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 6, 2007.
Gwellnar Banks,
Management Analyst, Office of the Chief Information Officer.

[FR Doc. E7-2301 Filed 2-9-07; 8:45 am]

BILLING CODE 3510-22-P